DEPARTMENT OF THE INTERIOR

National Park Service

[NPS-WASO-NAGPRA-NPS0037472; PPWOCRADN0-PCU00RP14.R50000]

Notice of Inventory Completion: California Department of Water Resources, Sacramento, CA and California State University Chico, Chico, CA

AGENCY: National Park Service, Interior.

ACTION: Notice.

SUMMARY: In accordance with the Native American Graves Protection and Repatriation Act (NAGPRA), California State University Chico (CSU Chico) has completed an inventory of human remains and associated funerary objects and has determined that there is a cultural affiliation between the human remains and associated funerary objects and Indian Tribes or Native Hawaiian organizations in this notice. The human remains and associated funerary objects were removed from Butte County, CA.

DATES: Repatriation of the human remains and associated funerary objects in this notice may occur on or after March 29, 2024.

ADDRESSES: Dawn Rewolinski, California State University, Chico, 400 W 1st Street, Chico, CA 95929, telephone (530) 898-3090, email drewolinski@csuchico.edu.

SUPPLEMENTARY INFORMATION: This notice is published as part of the National Park Service's administrative responsibilities under NAGPRA. The determinations in this notice are the sole responsibility of CSU Chico. The National Park Service is not responsible for the determinations in this notice. The National Park Service is not responsible for the determinations in this notice. Additional information on the determinations in this notice, including the results of consultation, can be found in the inventory or related records held by CSU Chico.

Description

CA-BUT-521

Human remains representing, at minimum, four individuals were removed from Butte County, CA. Site CA-BUT-521 is located near the Coyote Campground and Loafer Creek within the Lake Oroville State Recreation Area, which is on land owned by California Department of Water Resources (CDWR) and managed by the California Department of Parks and Recreation (CDPR). In April and May 1975. CSU Chico archeologist Richard E. Markley and his students conducted test excavations at CA-BUT-521 prior to construction for an employee housing project. In December 2023, CDWR transferred legal control of CA-BUT-521 to CSU Chico. The 1,143 associated funerary objects are 19 lots consisting of beads, 14 lots consisting of organics, two lots consisting of clay samples, 258 lots consisting of debitage, 74 lots consisting of unmodified faunal elements, 102 lots consisting of modified faunal elements, five lots consisting of flakes, 239 modified stones, five lots consisting of unmodified stone, one piece of petrified wood, 95 lots consisting of unmodified shells, 76 lots consisting of soil samples, seven lots consisting of charcoal samples, four oversized stone tools, and 242 lots consisting of projectile points.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, oral tradition, and expert opinion in the form of Tribal traditional knowledge.

Determinations

Pursuant to NAGPRA and its implementing regulations, and after consultation with the appropriate Indian Tribes and Native Hawaiian organizations, CSU Chico has determined that:

• The human remains described in this notice represent the physical remains of four individuals of Native American ancestry.

• The 1,143 objects described in this notice are reasonably believed to have been placed with or near individual human remains at the time of death or later as part of the death rite or ceremony.

• There is a relationship of shared group identity that can be reasonably traced between the human remains and associated funerary objects described in this notice and the Berry Creek Rancheria of Maidu Indians of California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 29, 2024. If competing requests for repatriation are received, CSU Chico must determine the most appropriate requestor prior to repatriation. Requests for joint repatriation of the human remains and associated funerary objects are considered a single request and not competing requests. CSU Chico is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 20, 2024.
Melanie O'Brien,
Manager, National NAGPRA Program.

[FR Doc. 2024-04087 Filed 2-27-24; 8:45 am]

BILLING CODE 4312-52-P